DEPARTMENT OF ENERGY

Federal Energy Regulatory Commission

[Project No. 10441-019]

City of Aspen, Colorado; Notice of Intent To File License Application, Filing of Pre-Application Document, and Approving Use of the Traditional Licensing Process

(February 5, 2024.)

a. Type of Filing: Notice of Intent to File License Application and Request to Use the Traditional Licensing Process.

b. Project No.: 10441-019.

c. Date Filed: June 30, 2023.

d. Submitted By: City of Aspen, Colorado.

e. Name of Project: Maroon Creek Hydroelectric Project.

f. Location: On Maroon Creek in Pitkin County, Colorado.

g. Filed Pursuant to: 18 CFR 5.3 of the Commission's regulations.

h. Potential Applicant Contact: Phil Overenyder at City of Aspen at (970) 920-5111; or email at phil.overeynder@aspen.gov..

i. FERC Contact: Everard Baker at (202) 502-8554; or email at everard.baker@ferc.gov.

j. The City of Aspen filed its request to use the Traditional Licensing Process on June 30, 2023. The City of Aspen provided public notice of its request on July 31, 2023. In a letter dated September 28, 2023, the Director of the Division of Hydropower Licensing approved the City of Aspen's request to use the Traditional Licensing Process.

k. With this notice, we are initiating informal consultation with the U.S. Fish and Wildlife Service under section 7 of the Endangered Species Act and the joint agency regulations thereunder at 50 CFR part 402. We are also initiating consultation with the Colorado State Historic Preservation Officer, as required by section 106, National Historical Preservation Act, and the implementing regulations of the Advisory Council on Historic Preservation at 36 CFR 800.2.

l. With this notice, we are designating the City of Aspen as the Commission's non-Federal representative for carrying out informal consultation, pursuant to section 7 of the Endangered Species Act and section 106 of the National Historic Preservation Act.

m. The City of Aspen filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room. For assistance, contact FERC at FERCOnlineSupport@ferc.gov or call toll free, (886) 208-3676 or TTY (202) 502-8659.

o. The licensee states its unequivocal intent to submit an application for a subsequent license for Project No. 10441. Pursuant to 18 CFR 16.20 each application for a subsequent license and any competing license applications must be filed with the Commission at least 24 months prior to the expiration of the existing license. All applications for license for this project must be filed by June 30, 2026.

p. Register online at http://www.ferc.gov/docs-filing/esubscription.asp to be notified via email of new filing and issuances related to this or other pending projects. For assistance, contact FERC Online Support.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Debbie-Anne A. Reese,
Acting Secretary.

[FR Doc. 2024-02718 Filed 2-8-24; 8:45 am]

BILLING CODE 6717-01-P